NATIONAL SCIENCE FOUNDATION

Business and Operations Advisory Committee; Meeting

In accordance with Federal Advisory Committee Act (Pub. L. 92-463, as amended), the National Science Foundation announces the following meeting:

Name: Business and Operations Advisory Committee (9556).

Date/Time: March 26, 2002; 8:30 a.m. to 5 p.m. (EST), March 27, 2002; 8:30 a.m. to 3 p.m. (EST).

Place: National Science Foundation, 4201 Wilson Boulevard, Room 1235,Arlington, VA.

Type of Meeting: Open.

Contact Person: Louise McIntire, National Science Foundation, 4201 Wilson Boulevard, Arlington, VA 22230 (703) 292-8200.

Purpose of Meeting: To provide advice concerning issues related to the oversight, integrity, development and enhancement of NSF's business operations.

Agenda:

March 26, 2002

AM: Introductions and Updates—Office of Budget, Finance, and Award Management and Office of Information and Resource Management activities; President's Management Agenda.

PM: Presentation and Discussion—Management Controls and Audit Findings.

March 27, 2002

AM: Discussion—Meet with NSF Deputy Director; presentation by NSF “customer” panel.

PM: Discussion—Planning for next meeting; feedback; other business.

Dated: March 5,2002.
Susanne Bolton,
Committee Management Officer.

[FR Doc. 02-5707 Filed 3-8-02; 8:45 am]

BILLING CODE 7555-01-M